OFFICE OF PERSONNEL MANAGEMENT

Submission for OMB Review; Comment Request for Revised Information Collection: OPM Form 1203-AW, Occupational Questionnaire OPM Form 1203-AW, OPM Form 1203-FX, Occupational Questionnaire OPM Form 1203-FX, and OPM Form 1203-EZ, Occupational Questionnaire OPM Form 1203-EZ

AGENCY: Office of Personnel Management.

ACTION: Notice.

SUMMARY: In accordance with the Paperwork Reduction Act of 1995 (Public Law 104-13, May 22, 1995), this notice announces that the Office of Personnel Management (OPM) submitted to the Office of Management and Budget a request for review of a revised information collection for Occupational Questionnaire (OPM Forms 1203-AW, 1203-FX and 1203-EZ). The Occupational Questionnaire is an optical scan form designed to collect applicant information and qualifications in a format suitable for automated processing and to create applicant records for an automated examining system. Each version of this form contains a unique scan form identifier in the upper left-hand corner for the scanning equipment to recognize which version is being used. The 1203 series was commonly referred to as the Qualifications and Availability Form C. OPM has re-titled the series as Occupational Questionnaire, to fit a more generic need. OPM uses these forms to carry out its responsibility for open competitive examining for admission to the competitive service in accordance with section 3304, of title 5, United States Code.

OPM Form 1203-AW is a scan form that contains a unique control number pre-printed within the footer of the form that is scanned in along with the applicant's information. It is OPM's intention to phase out this version of the Occupational Questionnaire during fiscal year 2002. Applicants will be asked to use OPM Form1203-FX or 1203-EZ in its place. OPM will officially cancel Form 1203-AW at that time.

OPM Form 1203-FX is a seven page version of the Occupational Questionnaire that allows the applicant to transmit via facsimile. This version does not contain a unique control number pre-printed within the footer of the form. However, this revised version will be phased in to allow continued acceptance of the existing version dated October 1998, making the existing version still usable. (See the comments identified below for what changes were made.)

OPM Form 1203-EZ is a three page version that is shorter and is transmittable via facsimile. This version does not contain a unique control number pre-printed within the footer of the form.

A comment request for these forms was published in the Federal Register on August 6, 2001 [FR Doc. 01-19551]. During the initial 60-day comment request period, OPM received no comments.

OPM has revised the Occupational Questionnaire to include the following: (1) Updated the Privacy Act and Public Burden Statements; (2) slightly re-designed the forms for scanning technology; (3) improved the sections that allow overseas applicants to enter foreign addresses and phone numbers; (4) removed the requirement for the applicant to sign and date (since this is a scan form that only recognizes certain characters written in blocks and filled-in bubbles); (5) added “Date of Birth” to all versions; (6) updated the Veterans' Preference section; and (7) changed the title of this series from “Qualifications and Availability Form” (commonly referred as the “Form C”) to “Occupational Questionnaire'.

Upon clearance from the Office of Management and Budget, the Occupational Questionnaire will be available via OPM's web site and OPM's USAJOBS web site. The form will be made available electronically as a fillable Adobe Acrobat Reader (.PDF) file and fillable on-line when applying on OPM's USAJOBS web site (when applicable). A transmittal memo from OPM will be sent to all Federal agency personnel directors via the Human Resources Management Council, announcing the approved, revised form and where/how to obtain it.

For copies of this proposal, contact Mary Beth Smith-Toomey on 202-606-8358, fax at 202-418-3251, or e-mail at mbtoomey@opm.gov. Please include a mailing address with your request.

DATES: Comments on this proposal should be received on or before July 15, 2002.

ADDRESSES: Send or deliver comments to—

U.S. Office of Personnel Management, Employment Service, ATTN: Rob Timmins, 1900 E Street, NW., Room 1425, Washington, DC 20415-9820, E-mail: ratimmin@opm.gov, and

Office of Management & Budget, Office of Information & Regulatory Affairs, ATTN: Joseph Lackey, OPM Desk Officer, New Executive Office Building, NW., Room 10235, Washington, DC 20503.

Office of Personnel Management.
Kay Coles James,
Director.

[FR Doc. 02-15011 Filed 6-13-02; 8:45 am]

BILLING CODE 6325-38-P